DEPARTMENT OF HOMELAND SECURITY

Coast Guard

33 CFR Part 117

[Docket No. USCG-2015-0096]

Drawbridge Operation Regulation; Umpqua River, Reedsport, OR

AGENCY: Coast Guard, DHS.

ACTION: Notice of deviation from drawbridge regulations.

SUMMARY: The Coast Guard has issued a temporary deviation from the operating schedule that governs the U.S. 101 Highway Bridge across the Umpqua River, mile 11.1, at Reedsport, OR. The deviation is necessary to accommodate steel bracing repair and electrical station repair on the bridge. This deviation allows the U.S. 101 Umpqua River Bridge to remain in the closed position during repairs.

DATES: This deviation is effective from 6 a.m. on February 23, 2015 to 11 p.m. on March 6, 2015.

ADDRESSES: The docket for this deviation, [USCG-2015-0096] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, call or email the Bridge Administrator, Coast Guard Thirteenth District; telephone 206-220-7282, email d13-pf-d13bridges@uscg.mil. If you have questions on viewing the docket, call Cheryl Collins, Program Manager, Docket Operations, telephone 202-366-9826.

SUPPLEMENTARY INFORMATION: The Oregon Department of Transportation requested that the U.S. 101 Umpqua River drawbridge, near Reedsport Oregon, remain in the closed-to-navigation position to facilitate steel bracing and stanchion repair. The U.S. 101 Bridge crosses the Umpqua River at mile 11.1 and provides 36 feet of vertical clearance above mean high water when in the closed position. Currently, the U.S. 101 Umpqua River Bridge is operating under a Temporary Final Rule (TFR), 33 CFR 117.898(d), 78 FR 70222, that allows the bridge to open once at 7 a.m. and once at 6 p.m., if an opening is requested at least six hours in advance. This TFR is effective from December 1, 2013 to September 30, 2015.

This deviation period is from 6 a.m. on February 23, 2015 to 11 p.m. March 6, 2015. The deviation allows the U.S. 101 Umpqua River Bridge, mile 11.1, to remain in the closed-to-navigation position and need not open for maritime traffic from 6 a.m. on February 23, 2015 to 11 p.m. March 06, 2015, except that, in approximately the second week of the project, the bridge will open at 7 a.m. and 6 p.m. on one day only if a minimum of 6 hours advanced notice is given. Mariners needing an opening, approximately half way through this project, are requested to coordinate with the bridge repair Project Inspector, Don Hyatt, at 541-297-8804, with as much advanced notice as possible.

Waterway usage on this stretch of the Umpqua River includes vessels ranging from occasional commercial tug and barge to small pleasure craft. Mariners will be notified and kept informed of the bridge's operational status via the Coast Guard Notice to Mariners publication and Broadcast Notice to Mariners as appropriate. The draw span will not be able to open for emergencies and there is no immediate alternate route for vessels to pass. Vessels which do not require an opening of the bridge may continue to transit beneath the bridge during this repair period.

In accordance with 33 CFR 117.35(e), the drawbridge must return to its regular operating schedule immediately at the end of the designated time period. This deviation from the operating regulations is authorized under 33 CFR 117.35.

Dated: February 13, 2015.
Steven M. Fischer,
Bridge Administrator, Thirteenth Coast Guard District.

[FR Doc. 2015-03681 Filed 2-23-15; 8:45 am]

BILLING CODE 9110-04-P